DEPARTMENT OF AGRICULTURE

Grain Inspection, Packers and Stockyards Administration

Request for Extension and Revision of a Currently Approved Information Collection

AGENCY: Grain Inspection, Packers and Stockyards Administration, USDA.

ACTION: Notice and request for comments.

SUMMARY: This notice announces our intention to request a 3-year extension and revision of a currently approved information collection in support of the reporting and recordkeeping requirements for the Swine Contract Library program. This approval is required under the Paperwork Reduction Act.

DATES: We will consider comments that we receive by April 3, 2006.

ADDRESSES: We invite you to submit comments on this notice. You may submit comments by any of the following methods:

• E-mail: Send comments via electronic mail to comments.gipsa@usda.gov.

• Mail: Send hardcopy written comments to Tess Butler, GIPSA, USDA, 1400 Independence Avenue, SW., Room 1647-S, Washington, DC 20250-3604.

• Fax: Send comments by facsimile transmission to: (202) 690-2755.

• Hand Delivery or Courier: Deliver comments to: Tess Butler, GIPSA, USDA, 1400 Independence Avenue, SW., Room 1647-S, Washington, DC 20250-3604.

Instructions: All comments should make reference to the date and page number of this issue of the Federal Register.

Background Documents: Information collection package and other documents relating to this action will be available for public inspection in the above office during regular business hours.

Read Comments: All comments will be available for public inspection in the above office during regular business hours (7 CFR 1.27(b)).

FOR FURTHER INFORMATION CONTACT: For information regarding the information collection activities and the use of the information, contact Bryice Wilke, at (515) 323-2579 or Bryice.A.Wilke @usda.gov.

SUPPLEMENTARY INFORMATION: The Grain Inspection, Packers and Stockyards Administration (GIPSA) is responsible for maintaining the Swine Contract Library, which is authorized by the Packers and Stockyards Act and requires that certain hog packers submit hog procurement contracts and delivery estimates to GIPSA. Reauthorization of the Swine Contract Library by Congress is pending, and is anticipated this year; in the interim, packers are voluntarily submitting information for the Swine Contract Library. Due to the length of time required to renew information collection approvals, in anticipation of the reauthorization of the Swine Contract Library program, we are publishing this notice to announce our intention to request approval from the Office of Management and Budget to continue collecting the required information. This information collection notice descries the requirements as they exist under the Swine Contract Library legislation even though that legislation is not currently in effect. Therefore, the language will indicate, for example, that packers are “required” to submit certain information. If the Swine Contract Library is not reauthorized we will determine if continuing the program on a voluntary basis would provide a benefit to the agency and market participants. The regulations implementing the Swine Contract Library are contained in 9 CFR part 206.

Title: Swine Contract Library.

OMB Number: 0580-0021.

Expiration Date of Approval: July 31, 2006.

Type of Request: Extension and revision of a currently approved information collection.

Abstract: The information collection and recordkeeping requirements for the Swine Contract Library are essential to maintaining the mandatory library of swine marketing contracts and reporting the number of swine contracted for delivery. There are currently 32 packers that are required to file contracts and report certain information on deliveries for a total of 51 plants that they operate or at which they have swine slaughtered. We expect the overall number of plants and packers to remain relatively constant, but the specific packers required to report will vary with consolidation and construction in the industry. Of the initial 32 reporting packers operating 51 plants, 2 packers operating 1 plant each have ceased business, 2 plants operated by different packers have fallen below the reporting threshold, and 2 plants operated by different packers have ceased slaughtering but continue to operate as processing facilities. Since reporting began in 2003, two packers operating one plant each have increased slaughter levels above the reporting threshold and two packers have built new plants that slaughter or expect to slaughter above the threshold level. One packer utilizing custom slaughter facilities has increased slaughter above the threshold level.

Packers are required to report information for individual plants even in instances when a given company owned or used more than one plant. The information collection burden estimate provided below are based on time and cost requirements at the plant level, so packers that report for more than one plant would bear a cost that would be a multiple of the per-plant estimates.

We understand from discussions with packers complying with current reporting requirements that reporting packers have adapted pre-existing data and information systems to provide the required information.

There are two types of information collections required for the Swine Contract Library.

The first information collection requirement consists of submitting example contracts. Initially, a packer submits example contracts currently in effect or available for each swine processing plant that is subject to the regulations. Subsequently, a packer submits example contracts for any offered, new, or amended contracts that vary from previously submitted contracts in regard to the base price determination, the application of a ledger or accrual account, carcass merit premium and discount schedules (including the determination of the lean percent or other merits of the carcass that are used to determine the amount of the premiums and discounts and how those premiums and discounts are applied), or the use and amount of noncarcass merit premiums or discounts. The initial submission of example contracts requires more time than subsequent filings of new contracts or changes, as packers initially need to review all their contracts to identify the unique types that need to be represented by an example submitted to GIPSA. Thereafter, subsequent filings require a minimal amount of effort on the part of packers, as only example contracts that represent a new or different type need to be filed with GIPSA. An optional contract submission cover sheet is available, but not required, for submitting example contracts. Approximately half the packers currently subject to the regulations use the optional cover sheet for contract submissions. This cover sheet is required for putting the contract into our system; if a contract is submitted without a cover sheet, one is completed by GIPSA staff.

The required submission of contracts includes both written and verbal contracts. Packers have added documentation of verbal contracts to their existing recordkeeping systems in order to comply with this requirement. The optional form that is available, but not required, for reporting verbal contracts is used by 10 packers; 1 packer that relies heavily on verbal contracts uses this optional form exclusively to document its verbal contracts. Of 664 contract files on file, the optional verbal contract sheet was used to document 137 verbal contracts.

The second information collection requirement is a monthly filing of summary information on form P&SP-341, Packer/Plant Report, Estimates of Swine Committed to Be Delivered Under Contract. The form for the monthly filing is simple and brief. For new packers required to start reporting, this data should be available in the packers' existing record systems. Electronic submission is encouraged and we provide the necessary information on procedures to submit data to GIPSA electronically. Web submissions account for 43 percent of all monthly report submissions received. Usage of the electronic submission option for the monthly reports has steadily increased since the implementation of the regulations with 41 percent submitted via the web in 2003, 56 percent submitted via the web in 2004, and 67 percent submitted via the web in 2005.

The estimates of time requirements used for the burden estimates below were developed in consultation with GIPSA personnel knowledgeable of the industry's recordkeeping practices. The estimates also reflect our experience in assembling large amounts of data during the course of numerous investigations involving use of data collected from the industry. Estimates of time requirements and hourly wage costs for developing electronic recordkeeping and reporting systems are based on our experience in developing similar systems, in consultation with our automated information systems staff.

(1) Submission of Contracts (no form required; optional form available)

Estimate of Burden: Reporting burden for submission of contracts is estimated to include 4 hours per plant for an initial review of all contracts to categorize them into types and identify unique examples, plus an additional 0.25 hours per unique contract identified during the initial review to submit an example of that contract. After the initial filing, the reporting burden is estimated to include 0.25 hours per plant to submit an example of each new or amended contract.

Respondents: Packers required to report information for the Swine Contract Library.

Estimated Number of Respondents: 32 packers (total of 51 plants).

Estimated Number of Responses per Plant: Number of responses per plant vary. Some plants would have no contracts, while others could have up to 80 contracts. We receive an average of six example contracts per plant per year for offered contracts and amended existing or available contracts.

Estimated Total Annual Burden on Respondents: Initial filing: 5.5 total hours for the initial filing of examples of existing contracts by all plants newly subject to the regulations combined. Based on changes in the industry, we anticipate one new plant to become subject to the regulations each year. Calculated as follows:

(4 hours per plant for initial review) × (1 new plant) = 4 hours for initial review;

(0.25 hours per contract) × (6 example contracts per plant) × (1 new plant) = 1.5 hours;

(4 hours) + (1.5 hours) = 5.5 total hours.

Thereafter, 76.5 total hours annually for all subsequent filing of examples of offered or amended existing or available contracts by all plants combined, based on an average of 6 offered or amended existing or available contracts annually. Calculated as follows: (0.25 hours per contract) × (6 example contracts per plant) × (51 plants) = 76.5 hours

Total Cost: Initial filing $138 for all plants combined. Calculated as follows:

(5.5 hours) × ($25 per hour) = $138

Thereafter, $1,913 annually for all plants combined for submission of subsequent filings. Calculated as follows:

(76.5 hours) × ($25 per hour) = $1,913

(2) Submission of Monthly Swine Marketing Contract Report (Form P&SP-341)

Estimate of Burden: The reporting burden for compiling data, completing and submitting the form is estimated to average 2 hours per manually prepared and submitted (via mail or facsimile) report and 1 hour per electronically prepared and submitted report. There would be an estimated additional one-time set up burden of 1 hour at a cost of $55 per plant for a packer that chose to create a spreadsheet or database for recordkeeping and preparation of monthly estimates. There would be an estimated additional 2 hour burden at a cost of $55 per hour or $110 per plant for a packer to develop procedures to extract and format the required information and to develop an interface between the packer's electronic recordkeeping system and GISPA's system. The hourly rate for development of electronic tools is assumed to be higher due to the need to use personnel with specialized computer skills.

Respondents: Packers required to report information for the Swine Contract Library.

Estimated Number of Respondents: 32 packers (total of 51 plants).

Estimated Number of Responses per Plant: 12 (1 per month for 12 months).

Estimated Total Annual Burden on Respondents: 1,224 hours for all plants combined if all plants used manual compiling, preparation, and submission. Calculated as follows:

(2 hours per response) × (51 plants) × (12 responses per plant) = 1,224 hours

612 hours for all plants combined if all plants use electronic compiling, preparation, and submission. Calculated as follows:

(1 hour per response) × (51 plants) × (12 responses per plant) = 612 hours.

Total Cost: $30,600 annually for all plants combined if all use manual submission. Calculated as follows:

(1224 hours) × ($25 per hour) = $30,600

$15,300 annually for all plants combined if all were to completely utilize electronic preparation and submission. Calculated as follows:

(612 hours) × ($25 per hour) = $15,300

Additional $165 one-time set-up cost if all plants newly subject to the regulations were to completely utilize electronic systems for preparation and submission. Calculated as follows:

(1 hour build spreadsheet/database) + (2 hours develop electronic interface) = 3 hours

(3 hours total development) × ($55.00 per hour) × (1 new plant) = $165.00

Most entities have chosen to use electronic recordkeeping and reporting methods. Thus, the cost burden to respondents would be at the lower end of the range provided. We estimate the range of costs in the first year for a packer reporting for one plant would be $640 using electronic submission and $775 for manual submission. In subsequent years, we estimate the range of costs would be $338 using electronic submission and $638 for manual submission.

The Paperwork Reduction Act also requires GIPSA to measure the recordkeeping burden. Under the P&S Act and its existing regulations, each packer is required to maintain and make available upon request such records as are necessary to verify information on all transactions between the packer and producers from whom the packer obtains swine for slaughter. Records that packers are required to maintain under existing regulations would meet the requirements for verifying the accuracy of information required to be reported for the Swine Contract Library. These records include original contracts, agreements, receipts, schedules, and other records associated with any transaction related to the purchase, pricing, and delivery of swine for slaughter under the terms of marketing contracts. Additional annual costs of maintaining records would be nominal since packers are required to store and maintain such records as a matter of normal business practice and in conformity with existing regulations.

As required by the Paperwork Reduction Act (44 U.S.C. 3506(c)(2)(A)) and its implementing regulations (5 CFR 1320.8(d)(1)(i)), we specifically request comments on:

(a) Whether the proposed collection of information is necessary for the proper performance of the functions of the agency, including whether the information will have practical utility;

(b) the accuracy of the agency's estimate of the burden of the proposed collection of information, including the validity of the methodology and assumptions used;

(c) ways to enhance the quality, utility, and clarity of the information to be collected; and

(d) ways to minimize the burden on the collection of information on those who are to respond, including through the use of appropriate automated, electronic, mechanical, or other technological collection techniques or other forms of information technology.

All responses to this notice will be summarized and included in the request for the Office of Management and Budget approval. All comments will also become a matter of public record.

Authority: 44 U.S.C. 3506 and 5 CFR 1320.8.

David R. Shipman,
Acting Administrator, Grain Inspection, Packers and Stockyards Administration.

[FR Doc. E6-1335 Filed 1-31-06; 8:45 am]

BILLING CODE 3410-EN-P